DEPARTMENT OF JUSTICE

[OMB Number 1121-0269]

Agency Information Collection Activities; Proposed eCollection eComments Requested; Reinstatement, With Change, of a Previously Approved Collection for Which Approval has Expired: 2014 Census of Publicly Funded Forensic Crime Laboratories (CPFFCL-14)

AGENCY: Bureau of Justice Statistics, Department of Justice

ACTION: 60-day Notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until November 17, 2014.

FOR FURTHER INFORMATION CONTACT: If you have additional comments especially on the estimated public burden or associated response time, suggestions, or need a copy of the proposed information collection instrument with instructions or additional information, please contact Matthew Durose, Statistician, Bureau of Justice Statistics, 810 Seventh Street NW., Washington, DC 20531 (email: Matt.Durose@usdoj.gov; telephone: 202-307-0765).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Reinstatement of the Census of Publicly Funded Forensic Crime Laboratories, with changes, a previously approved collection for which approval has expired.

(2) The Title of the Form/Collection: 2014 Census of Publicly Funded Forensic Crime Laboratories.

(3) The agency form number, if any, and the applicable component of the Department sponsoring the collection: The form number for the questionnaire is CFCL-14. The applicable component within the Department of Justice is the Bureau of Justice Statistics, in the Office of Justice Programs.

(4) Affected public who will be asked or required to respond, as well as a brief abstract: This information collection is a census of federal, state, and local publicly funded forensic crime laboratories that analyze physical evidence collected during criminal investigations and the administration of justice. The primary goals of the work under this clearance are to produce a national roster of publicly funded forensic crime laboratories operating in 2014 and to collect accurate and reliable information about their services and resources. The CPFFCL-14 will provide national statistics on laboratory personnel, budgets, workloads, forensic backlogs, and quality assurances (e.g., accreditations, proficiency testing, and examiner certifications). BJS will expand the scope of the CPFFCL-14 to capture additional information about an emerging forensic science discipline known as digital and multimedia evidence. BJS plans to publish this information in reports and reference it when responding to queries from the U.S. Congress, Executive Office of the President, the U.S. Supreme Court, state officials, international organizations, researchers, students, the media, and others interested in criminal justices statistics.

(5) An estimate of the total number of respondents and the amount of time estimated for an average respondent to respond: 510 respondents at 2.9 hours each. Respondents have the option to provide responses using either paper or web-based questionnaires. The burden estimate is based on feedback from respondents gathered during pilot testing.

(6) An estimate of the total public burden (in hours) associated with the collection: There is an estimated 1,479 annual total burden hours associated with this collection.

If additional information is required contact: Jerri Murray, Department Clearance Officer, United States Department of Justice, Justice Management Division, Policy and Planning Staff, Two Constitution Square, 145 N Street NE., 3E.405B, Washington, DC 20530.

Dated: September 11, 2014.
Jerri Murray,
Department Clearance Officer for PRA, U.S. Department of Justice.

[FR Doc. 2014-22011 Filed 9-15-14; 8:45 am]

BILLING CODE 4410-18-P